DEPARTMENT OF ENERGY

Federal Energy Regulatory Commission

Combined Notice of Filings #1

Take notice that the Commission received the following electric rate filings:

Docket Numbers: ER19-2276-004.

Applicants: New York Independent System Operator, Inc.

Description: Compliance filing: Compliance: Effective Date DER Telemetry for CSR to be effective 3/31/2021.

Filed Date: 3/9/21.

Accession Number: 20210309-5102.

Comments Due: 5 p.m. ET 3/30/21.

Docket Numbers: ER20-280-002.

Applicants: Skookumchuck Wind Energy Project, LLC.

Description: Skookumchuck Wind Energy Project, LLC submits Supplement to Notice of Change in Status.

Filed Date: 3/8/21.

Accession Number: 20210308-5144.

Comments Due: 5 p.m. ET 3/29/21.

Docket Numbers: ER20-287-005.

Applicants: CPV Fairview, LLC.

Description: Compliance filing: Reactive Service Rate Schedule Compliance Filing to be effective 1/7/2020.

Filed Date: 3/8/21.

Accession Number: 20210308-5250.

Comments Due: 5 p.m. ET 3/29/21.

Docket Numbers: ER20-707-002.

Applicants: Eastern Shore Solar LLC.

Description: Report Filing: Refund Report to be effective N/A.

Filed Date: 3/9/21.

Accession Number: 20210309-5095.

Comments Due: 5 p.m. ET 3/30/21.

Docket Numbers: ER20-1986-001; ER20-2064-002; ER20-1907-002; ER20-2237-002.

Applicants: Day County Wind I, LLC, High Majestic Wind I, LLC, Minco Wind I, LLC, Weatherford Wind, LLC.

Description: Supplement to January 28, 2021 Notice of Non-Material Change in Status of Day County Wind I, LLC, et al.

Filed Date: 3/9/21.

Accession Number: 20210309-5108.

Comments Due: 5 p.m. ET 3/30/21.

Docket Numbers: ER20-1987-003; ER20-2690-002; ER20-2648-002; ER20-2070-002.

Applicants: Cerro Gordo Wind, LLC, Jordan Creek Wind, LLC, Northern Divide Wind, LLC, Wheatridge Wind II, LLC.

Description: Supplement to January 27, 2021 Notice of Non-Material Change in Status of Cerro Gordo Wind, LLC, et al.

Filed Date: 3/8/21.

Accession Number: 20210308-5239.

Comments Due: 5 p.m. ET 3/29/21.

Docket Numbers: ER21-798-001.

Applicants: Southwest Power Pool, Inc.

Description: Tariff Amendment: Amended Filing—Revisions to Modify Section 8.6.5 of Attachment AE to be effective 8/5/2021.

Filed Date: 3/9/21.

Accession Number: 20210309-5080.

Comments Due: 5 p.m. ET 3/30/21.

Docket Numbers: ER21-884-001.

Applicants: Ohio Power Company, American Electric Power Service Corporation, PJM Interconnection, L.L.C.

Description: Tariff Amendment: AEP submits Amendment in ER21-884 re: Four FAs to be effective 5/9/2021.

Filed Date: 3/9/21.

Accession Number: 20210309-5086.

Comments Due: 5 p.m. ET 3/30/21.

Docket Numbers: ER21-1300-000.

Applicants: El Paso Electric Company.

Description: § 205(d) Rate Filing: Rate Schedule No. 349, Engineering Services Agreement with EDFR to be effective 3/10/2021.

Filed Date: 3/8/21.

Accession Number: 20210308-5243.

Comments Due: 5 p.m. ET 3/29/21.

Docket Numbers: ER21-1303-000.

Applicants: Midcontinent Independent System Operator, Inc., American Transmission Company LLC.

Description: § 205(d) Rate Filing: 2021-03-09_SA 2806 ATC-City of Oconomowoc 1st Rev CFA to be effective 5/9/2021.

Filed Date: 3/9/21.

Accession Number: 20210309-5101.

Comments Due: 5 p.m. ET 3/30/21.

Docket Numbers: ER21-1304-000.

Applicants: California Independent System Operator Corporation.

Description: Compliance filing: 2021-02-09 Reconciliation of Approved Tariff Language—Multiple Filings to be effective 3/3/2020.

Filed Date: 3/9/21.

Accession Number: 20210309-5114.

Comments Due: 5 p.m. ET 3/30/21.

Docket Numbers: ER21-1305-000.

Applicants: Michigan Public Power Agency.

Description: Annual Informational Attachment O filing of Michigan Public Power Agency.

Filed Date: 3/9/21.

Accession Number: 20210309-5120.

Comments Due: 5 p.m. ET 3/30/21.

Docket Numbers: ER21-1306-000.

Applicants: Grand Haven Board of Light and Power.

Description: Annual Informational Attachment O filing of Grand Haven Board of Light and Power.

Filed Date: 3/9/21.

Accession Number: 20210309-5124.

Comments Due: 5 p.m. ET 3/30/21.

Docket Numbers: ER21-1307-000.

Applicants: Midcontinent Independent System Operator, Inc., American Transmission Company LLC.

Description: § 205(d) Rate Filing: 2021-03-09_SA 2798 ATC-City of Menasha 1st Rev CFA to be effective 5/9/2021.

Filed Date: 3/9/21.

Accession Number: 20210309-5126.

Comments Due: 5 p.m. ET 3/30/21.

Docket Numbers: ER21-1308-000.

Applicants: Idaho Power Company.

Description: § 205(d) Rate Filing: SA 419 and 420—Conditional Firm PTP SA with PWX for LOLO-BORA to be effective 4/1/2021.

Filed Date: 3/9/21.

Accession Number: 20210309-5135.

Comments Due: 5 p.m. ET 3/30/21.

Take notice that the Commission received the following PURPA 210(m)(3) filings:

Docket Numbers: QM21-7-000.

Applicants: Wolverine Power Supply Cooperative, Inc.

Description: Application of Wolverine Power Supply Cooperative, Inc. to Terminate Its Mandatory Purchase Obligation under the Public Utility Regulatory Policies Act of 1978.

Filed Date: 3/9/21.

Accession Number: 20210309-5057.

Comments Due: 5 p.m. ET 4/6/21.

Docket Numbers: QM21-8-000.

Applicants: Duke Energy Indiana, LLC.

Description: Application of Duke Energy Indiana, LLC to Terminate Its Mandatory Purchase Obligation under the Public Utility Regulatory Policies Act of 1978.

Filed Date: 3/9/21.

Accession Number: 20210309-5092.

Comments Due: 5 p.m. ET 4/6/21.

Docket Numbers: QM21-9-000.

Applicants: Duke Energy Ohio, Inc., Duke Energy Kentucky, Inc.

Description: Application of Duke Energy Ohio, Inc., et al. to Terminate Its Mandatory Purchase Obligation under the Public Utility Regulatory Policies Act of 1978.

Filed Date: 3/9/21.

Accession Number: 20210309-5093.

Comments Due: 5 p.m. ET 4/6/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2021.
Nathaniel J. Davis, Sr.,
Deputy Secretary.

[FR Doc. 2021-05277 Filed 3-12-21; 8:45 am]

BILLING CODE 6717-01-P